DEPARTMENT OF HEALTH AND HUMAN SERVICES

Health Resources and Services Administration

Meeting of the Advisory Commission on Childhood Vaccines

AGENCY: Health Resources and Services Administration (HRSA), Department of Health and Human Services.

ACTION: Notice.

SUMMARY: In accordance with the Federal Advisory Committee Act, this notice announces that the Advisory Commission on Childhood Vaccines (ACCV) will hold public meetings for calendar year (CY) 2025. Information about the ACCV, agendas, and materials for these meetings can be found on the ACCV website at https://www.hrsa.gov/advisory-committees/vaccines/index.html.

DATES: ACCV meetings will be held on December 29, 2025, at 11:30 a.m. Eastern Time (ET); 12:00 p.m. ET; 12:30 p.m. ET; and 1:00 p.m. ET.

ADDRESSES: Meetings will be held by Microsoft Teams webinar. For meeting information updates, go to the ACCV website meeting page at https://www.hrsa.gov/advisory-committees/vaccines/meetings.html.

FOR FURTHER INFORMATION CONTACT: Pita Gomez, Principal Staff Liaison, Division of Injury Compensation Programs, HRSA, 5600 Fishers Lane, 14W-18, Rockville, Maryland 20857; 800-338-2382; or ACCV@hrsa.gov.

SUPPLEMENTARY INFORMATION: The ACCV provides advice and recommendations to the Secretary of Health and Human Services on policy, program development, and other issues related to implementation of the National Vaccine Injury Compensation Program and concerning other matters as described under section 2119 of the Public Health Service Act (42 U.S.C. 300aa-19).

Since priorities dictate meeting times, be advised that start times, end times, and agenda items are subject to change. Refer to the ACCV website listed above for any meeting updates that may occur. For CY 2025 meetings, agenda items may include but are not limited to: updates from the Division of Injury Compensation Programs, Department of Justice, and Department of Health and Human Services' Divisions. The purpose of the four virtual meetings is for discussion only; the Commission will not conduct any voting or decision-making. Refer to the ACCV website listed above for all current and updated information concerning the CY 2025 ACCV meetings, including draft agendas and meeting materials that will be posted before the meeting.

These meetings are open to the public. Meetings held on Microsoft Teams require registration. Registration details will be provided on our ACCV website at https://www.hrsa.gov/advisory-committees/vaccines/meetings.html. All registrants will be asked to provide their name, affiliation, and email address. After registration, individuals will receive Microsoft Teams information via email.

Members of the public will have the opportunity to provide comments. Public participants may submit written statements in advance of the scheduled meeting(s). Oral comments will be honored in the order they are requested and may be limited as time allows. Requests to submit a written statement to the ACCV should be sent to Pita Gomez using the contact information above at least 5 business days before the meeting date(s).

Individuals who need special assistance or another reasonable accommodation should notify Pita Gomez using the contact information listed above.

Maria G. Button,
Director, Executive Secretariat.

[FR Doc. 2025-22982 Filed 12-15-25; 8:45 am]

BILLING CODE 4165-15-P